DEPARTMENT OF ENERGY

Federal Energy Regulatory Commission

Combined Notice of Filings #2

Take notice that the Commission received the following exempt wholesale generator filings:

Docket Numbers: EG25-21-000.

Applicants: IN Solar 1, LLC.

Description: IN Solar 1, LLC submits Notice of Self-Certification of Exempt Wholesale Generator Status.

Filed Date: 10/31/24.

Accession Number: 20241031-5247.

Comment Date: 5 p.m. ET 11/21/24.

Docket Numbers: EG25-22-000.

Applicants: IEP Tejas Cerde, LLC.

Description: IEP Tejas Cerde, LLC submits Notice of Self-Certification of Exempt Wholesale Generator Status.

Filed Date: 10/31/24.

Accession Number: 20241031-5288.

Comment Date: 5 p.m. ET 11/21/24.

Take notice that the Commission received the following electric rate filings:

Docket Numbers: ER10-2193-005.

Applicants: H.Q. Energy Services (U.S.) Inc.

Description: Notice of Change in Status of H.Q. Energy Services (U.S.) Inc.

Filed Date: 10/30/24.

Accession Number: 20241030-5289.

Comment Date: 5 p.m. ET 11/20/24.

Docket Numbers: ER17-1742-011; ER13-2490-015; ER17-311-011; ER19-2595-010; ER19-2670-010; ER19-2671-010; ER19-2672-010; ER20-1073-009; ER20-2510-009; ER20-2512-009; ER20-2515-009; ER20-2663-009; ER21-2406-008; ER21-2407-008; ER21-2408-008; ER21-2409-008; ER21-2638-008; ER22-734-007; ER22-2028-006; ER22-2421-005; ER22-2423-005; ER22-2425-005; ER22-2427-005; ER23-1237-003; ER23-2186-002; ER23-2188-002; ER23-2190-002.

Applicants: SR DeSoto III, LLC, SR DeSoto III Lessee, LLC, SR DeSoto II, LLC, SR Snipesville III, LLC, SR Cedar Springs, LLC, SR Clay, LLC, SR DeSoto I Lessee, LLC, SR DeSoto I, LLC, SR Hazlehurst, LLC, SR Arlington, LLC, SR Perry, LLC, SR Snipesville II, LLC, SR Lumpkin, LLC, SR Georgia Portfolio II Lessee, LLC, Lancaster Solar LLC, SR Snipesville, LLC, SR Georgia Portfolio I MT, LLC, SR Baxley, LLC, Odom Solar LLC, SR Terrell, LLC, SR Arlington II MT, LLC, SR Arlington II, LLC, SR Meridian III, LLC, SR Hazlehurst III, LLC, SR South Loving LLC, Simon Solar, LLC, Hattiesburg Farm, LLC.

Description: Notice of Non-Material Change in Status of Hattiesburg Farm, LLC, et al.

Filed Date: 10/30/24.

Accession Number: 20241030-5288.

Comment Date: 5 p.m. ET 11/20/24.

Docket Numbers: ER19-158-016; ER10-1547-017; ER10-1975-033; ER10-2421-014; ER10-2616-028; ER10-2617-014; ER10-2619-015; ER10-2674-017; ER10-2677-018; ER11-2457-014; ER11-4400-025; ER12-75-017; ER12-192-019; ER12-2250-015; ER12-1769-016; ER12-2251-015; ER12-2253-015; ER13-2475-016; ER14-883-020; ER14-1569-021; ER14-2245-016; ER15-1596-021; ER15-1598-011; ER15-1599-021; ER15-1600-010; ER15-1602-010; ER15-1605-010; ER15-1607-010; ER19-102-014; ER19-2803-013; ER11-2449-005; ER19-2807-013; ER19-2809-013; ER19-2810-013; ER19-2811-013; ER20-1436-006; ER20-1438-006.

Applicants: Energy Harbor Nuclear Generation LLC, Energy Harbor LLC, Viridian Energy, LLC, Viridian Energy PA, LLC, Viridian Energy NY, LLC, Energy Rewards, LLC, Connecticut Gas & Electric, Inc., Cincinnati Bell Energy LLC, Luminant Energy Company LLC, Washington Power Generation LLC, Miami Fort Power Company LLC, Hanging Rock Power Company LLC, Fayette Power Company LLC, Dynegy Energy Services (East), LLC, Dicks Creek Power Company LLC, Luminant Commercial Asset Management LLC, TriEagle Energy, LP, Dynegy Energy Services, LLC, Illinois Power Marketing Company, Kincaid Generation, L.L.C., Public Power & Utility of Maryland, LLC, Public Power & Utility of NY, Inc, Everyday Energy, LLC, Everyday Energy NJ, LLC, Liberty Electric Power, LLC, Public Power, LLC, Dynegy Power Marketing, LLC, Massachusetts Gas & Electric, Inc., Pleasants Energy, LLC, Calumet Energy Team, LLC, Kendall Power Company LLC, Ontelaunee Power Operating Company LLC, Dynegy Marketing and Trade, LLC, Energy Services Providers, LLC, Sayreville Power Generation LP, Hopewell Power Generation, LLC, Ambit Northeast, LLC.

Description: Notice of Non-Material Change in Status of Ambit Northeast, LLC, et al.

Filed Date: 10/30/24.

Accession Number: 20241030-5293.

Comment Date: 5 p.m. ET 11/20/24.

Docket Numbers: ER19-1575-013; ER01-2760-009; ER10-2488-030; ER13-1586-025; ER14-2871-024; ER15-463-023; ER15-621-023; ER15-622-023; ER16-72-019; ER16-182-019; ER16-902-016; ER17-47-016; ER17-48-017; ER18-47-016; ER18-2240-012; ER18-2241-012; ER19-427-012; ER19-1660-012; ER19-1662-012; ER20-71-012; ER20-72-012; ER20-75-012; ER20-76-014; ER20-77-012; ER20-79-012; ER21-1368-008; ER21-1369-009; ER21-1371-009; ER21-1373-010; ER21-1376-010; ER21-2782-009; ER22-149-010; ER22-1439-010; ER22-1440-010; ER22-1441-010; ER22-1442-008; ER22-2419-006; ER22-2420-006; ER23-562-006; ER23-1048-006; ER23-2001-006; ER24-916-002; ER24-917-002; ER24-2257-002; ER24-2258-002.

Applicants: Lockhart CL ESS II, LLC, Lockhart CL ESS I, LLC, Placerita ESS, LLC, Beaumont ESS, LLC, Sagebrush ESS II, LLC, Lockhart ESS, LLC, TGP Energy Management II, LLC, Lockhart Solar PV II, LLC, Lockhart Solar PV, LLC, EdSan 1B Group 3, LLC, EdSan 1B Group 2, LLC, EdSan 1B Group 1 Sanborn, LLC, EdSan 1B Group 1 Edwards, LLC, Sagebrush Line, LLC, Sagebrush ESS, LLC, Sanborn Solar 1A, LLC, Edwards Solar 1A, LLC, Edwards Sanborn Storage II, LLC, Edwards Sanborn Storage I, LLC, Valley Center ESS, LLC, Voyager Wind IV Expansion, LLC, Painted Hills Wind Holdings, LLC, Oasis Plains Wind, LLC, Oasis Alta, LLC, Coachella Wind Holdings, LLC, Coachella Hills Wind, LLC, Mojave 16/17/18 LLC, Mojave 3/4/5 LLC,LUZ Solar Partners IX, Ltd., Garnet Wind, LLC, Yavi Energy, LLC, Voyager Wind II, LLC, Terra-Gen Mojave Windfarms, LLC, DifWind Farms LTD VI, Voyager Wind I, LLC, Cameron Ridge II, LLC, San Gorgonio Westwinds II—Windustries, LLC, Ridgetop Energy, LLC, Pacific Crest Power, LLC, San Gorgonio Westwinds II, LLC, Cameron Ridge, LLC, TGP Energy Management, LLC, Oasis Power Partners, LLC, Ridge Crest Wind Partners, LLC, Alta Oak Realty, LLC.

Description: Notice of Non-Material Change in Status of Alta Oak Realty, LLC et al.

Filed Date: 10/30/24.

Accession Number: 20241030-5292.

Comment Date: 5 p.m. ET 11/20/24.

Docket Numbers: ER24-619-001.

Applicants: MS Solar 5, LLC.

Description: Notice of Change in Status of MS Solar 5, LLC.

Filed Date: 10/30/24.

Accession Number: 20241030-5290.

Comment Date: 5 p.m. ET 11/20/24.

Docket Numbers: ER24-2220-001.

Applicants: FL Solar 7, LLC.

Description: Compliance filing: Notice of Change in Status Reporting Passive Tax Equity Investor to be effective 12/31/2024.

Filed Date: 10/31/24.

Accession Number: 20241031-5227.

Comment Date: 5 p.m. ET 11/21/24.

Docket Numbers: ER25-307-000.

Applicants: Aron Energy Prepay 23 LLC.

Description: Compliance filing: Notice of Non-Material Change in Status and Revised Market-Based Rate Tariff to be effective 11/1/2024.

Filed Date: 10/31/24.

Accession Number: 20241031-5186.

Comment Date: 5 p.m. ET 11/21/24.

Docket Numbers: ER25-308-000.

Applicants: Southwest Power Pool, Inc.

Description: § 205(d) Rate Filing: Revisions to Modify Schedule 1-A to Increase Administration Cap (RR 647) to be effective 1/1/2025.

Filed Date: 10/31/24.

Accession Number: 20241031-5200.

Comment Date: 5 p.m. ET 11/21/24.

Docket Numbers: ER25-309-000.

Applicants: Duke Energy Progress, LLC.

Description: § 205(d) Rate Filing: DEP-NCEMC DTA RS No. 450 to be effective 1/1/2025.

Filed Date: 10/31/24.

Accession Number: 20241031-5231.

Comment Date: 5 p.m. ET 11/21/24.

Docket Numbers: ER25-310-000.

Applicants: Camino Solar, LLC.

Description: Baseline eTariff Filing: Application for Market-Based Rate Authorization, Request for Related Waivers to be effective 12/1/2024.

Filed Date: 10/31/24.

Accession Number: 20241031-5257.

Comment Date: 5 p.m. ET 11/21/24.

Docket Numbers: ER25-311-000.

Applicants: NorthWestern Corporation.

Description: § 205(d) Rate Filing: Att G Revisions to Update Load Shedding Procedures to be effective 11/1/2024.

Filed Date: 10/31/24.

Accession Number: 20241031-5259.

Comment Date: 5 p.m. ET 11/21/24.

Docket Numbers: ER25-312-000.

Applicants: Niagara Mohawk Power Corporation, New York Independent System Operator, Inc.

Description: § 205(d) Rate Filing: Niagara Mohawk Power Corporation submits tariff filing per 35.13(a)(2)(iii: NMPC 205: Amended LGIA among NMPC and Sterling Power Partners SA 1144 to be effective 11/1/2024.

Filed Date: 10/31/24.

Accession Number: 20241031-5261.

Comment Date: 5 p.m. ET 11/21/24.

Docket Numbers: ER25-313-000.

Applicants: Clyde Onsite Generation, LLC.

Description: § 205(d) Rate Filing: Notice of Change in Status and Tariff Revisions to be effective 11/1/2024.

Filed Date: 10/31/24.

Accession Number: 20241031-5266.

Comment Date: 5 p.m. ET 11/21/24.

Docket Numbers: ER25-314-000.

Applicants: Martinsville OnSite Generation, LLC.

Description: § 205(d) Rate Filing: Notice of Change in Status and Tariff Revisions to be effective 11/1/2024.

Filed Date: 10/31/24.

Accession Number: 20241031-5274.

Comment Date: 5 p.m. ET 11/21/24.

Docket Numbers: ER25-315-000.

Applicants: South River OnSite Generation, LLC.

Description: § 205(d) Rate Filing: Notice of Change in Status and Tariff Revisions to be effective 11/1/2024.

Filed Date: 10/31/24.

Accession Number: 20241031-5277.

Comment Date: 5 p.m. ET 11/21/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 31, 2024.
Carlos D. Clay,
Acting Deputy Secretary.

[FR Doc. 2024-25843 Filed 11-6-24; 8:45 am]

BILLING CODE 6717-01-P